FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than December 5, 2022.

A. Federal Reserve Bank of New York (Ivan J. Hurwitz, Head of Bank Applications) 33 Liberty Street, New York, New York 10045-0001. Comments can also be sent electronically to Comments.applications@ny.frb.org:

1. PL Capital, LLC; Goodbody/PL Capital, LLC; Financial Edge Fund, L.P.; Financial Edge-Strategic Fund, L.P.; PL Capital/Focused Fund, L.P.; Goodbody/PL Capital, L.P.; PL Capital Advisors, LLC; and John W. Palmer and Richard J. Lashley, as principals and managing members of PL Capital Advisors, LLC, PL Capital, LLC, and Goodbody/PL Capital LLC, all of Naples, Florida; as a group acting in concert, to acquire additional voting shares of Evans Bancorp, Inc., and thereby indirectly acquire additional voting shares of Evans Bank, N.A., both of Williamsville, New York.

B. Federal Reserve Bank of Atlanta (Erien O. Terry, Assistant Vice President) 1000 Peachtree Street, NE, Atlanta, Georgia 30309. Comments can also be sent electronically to Applications.Comments@atl.frb.org:

1. Strategic Value Investors, LP; Strategic Value Bank Partners, LLC; Strategic Value Opportunities, LP; Strategic Value Private Partners, LLC; and Benjamin Mackovak and Martin Adams, each a managing member of Strategic Value Bank Partners, LLC and Strategic Value Private Partners, LLC, all of Cleveland, Ohio; as a group acting in concert, to acquire additional voting shares of FineMark Holdings, Inc., and thereby indirectly acquire voting shares of FineMark National Bank & Trust, both of Fort Myers, Florida.

C. Federal Reserve Bank of St. Louis (Holly A. Rieser, Senior Manager) P.O. Box 442, St. Louis, Missouri 63166-2034. Comments can also be sent electronically to Comments.applications@stls.frb.org:

1. The James C. Keaster III Revocable Trust, James C. Keaster, as trustee, the Rebecca R. Keaster Revocable Trust, Rebecca R. Keaster, as trustee, and James Keaster IV, all of Greenville, Illinois; Benjamin Keaster, and Marie Keaster, both of Spring Arbor, Michigan; as a group acting in concert to retain voting shares of Bradford Bancorp, Inc., and thereby indirectly retain voting shares of The Bradford National Bank of Greenville, both of Greenville, Illinois.

D. Federal Reserve Bank of Minneapolis (Stephanie Weber, Assistant Vice President) 90 Hennepin Avenue, Minneapolis, Minnesota 55480-0291. Comments can also be sent electronically to MA@mpls.frb.org:

1. Eunice M. Moody Trust, Robert H. Moody and Michael Moody, individually and as co-trustees, Kathleen Moody, Elizabeth Moody, and Patricia Moody, all of River Falls, Wisconsin; to become the Moody Family Shareholder Group, a group acting in concert, to retain voting shares of River Falls Bancshares, Inc., and thereby indirectly retain voting shares of River Falls State Bank, both of River Falls, Wisconsin.

Board of Governors of the Federal Reserve System.
Michele Taylor Fennell,
Deputy Associate Secretary of the Board.

[FR Doc. 2022-25286 Filed 11-18-22; 8:45 am]

BILLING CODE P